DEPARTMENT OF TRANSPORTATION

Federal Aviation Administration

Advisory Circular; Turbine Engine Continued Rotation and Rotor Locking

AGENCY: Federal Aviation Administration, DOT.

ACTION: Notice of availability of advisory circular.

SUMMARY: The Federal Aviation Administration (FAA) announces the availability of Advisory Circular (AC) Number 33.74/92-1A, Turbine Engine Continued Rotation and Rotor Locking.

DATES: The Engine and Propeller Directorate, Aircraft Certification Service, issued AC 33.74/92-1A on July 23, 2003.

FOR FURTHER INFORMATION CONTACT: Marc Bouthillier, Engine and Propeller Standards Staff, ANE-110, 12 New England Executive Park, Burlington, MA 01803; telephone: (781) 238-7120; fax: (781) 238-7199; e-mail: marc.bouthillier@faa.gov. The subject AC is available on the Internet at the following address: http://www.airweb.faa.gov/rgl.

SUPPLEMENTARY INFORMATION: The FAA published a notice in the Federal Register on July 23, 2002 (67 FR 48246) to announce the availability of the proposed AC and invite interested parties to comment.

Background

This AC provides guidance and acceptable methods, but not the only methods, that may be used to demonstrate compliance with the continued rotation and rotor locking requirements of §§ 33.74 and 33.92.

(Authority: 49 U.S.C. 106(g), 40113, 44701-44702, 44704.)

Issued in Burlington, Massachusetts, on July 23, 2003.
Francis A. Favara,
Assistant Manager, Engine and Propeller Directorate, Aircraft Certification Service.

[FR Doc. 03-19407 Filed 7-29-03; 8:45 am]

BILLING CODE 4910-13-M